DEPARTMENT OF STATE

[Public Notice 4933]

Announcement of Meetings of the International Telecommunication Advisory Committee

SUMMARY: The International Telecommunication Advisory Committee will meet in February, March, April, and May to prepare for meetings of CITEL Permanent Consultative Committee I (PCC I), CITEL Permanent Executive Committee (COM/CITEL) and ITU World Telecommunication Development Conference (WTDC) Regional Preparatory Meetings. Members of the public will be admitted to the extent that seating is available, and may join in the discussions, subject to the instructions of the Chair.

The International Telecommunication Advisory Committee (ITAC) will meet on Wednesday, February 23, 2005, 2 p.m.-4 p.m., at a location in the Washington, DC area to prepare for the April meeting of CITEL Permanent Consultative Committee I (Telecommunication Standardization). Other meetings will be held on March 9, March 23 and April 5. A detailed agenda will be published on the e-mail reflector pcci-citel@eblist.state.gov. People desiring to attend the meeting who are not on this list may request the information from the Secretariat at minardje@state.gov.

The International Telecommunication Advisory Committee (ITAC) will meet on Wednesday, April 27, Monday, May 9 and Wednesday, May 25, 2-4 p.m. at a location in the Washington, DC area, to prepare for meetings of CITEL's Permanent Executive Committee (COM/CITEL)from June 1-3, 2005. A detailed agenda will be published on the e-mail reflector pcci-citel@eblist.state.gov and pccii-citel@eblist.state.gov. People desiring to attend the meeting who are not on these lists may request the information from the Secretariat at minardje@state.gov.

The International Telecommunication Advisory Committee (ITAC) will meet on Thursday, February 10, March 3, March 17 and March 31, from 10 a.m.-12 p.m. All four meetings will be at the Department of State, Room 2533A, 2201 C Street, Washington, DC. There will be no conference bridge. Entrance to the Department of State is controlled; people intending to attend a meeting at the Department of State should send their clearance data by fax to (202) 647-7407 or e-mail to mccorklend@state.gov not later than 24 hours before the meeting. Please include the name of the meeting, your name, social security number, date of birth and organizational affiliation. One of the following valid photo identifications will be required for admittance: U.S. driver's license with your picture on it, U.S. passport, or U.S. Government identification. Directions to the meeting location may be obtained by calling the ITAC Secretariat at 202 647-2592 or e-mail to mccorklend@state.gov.

Dated: January 18, 2005.
Anne Jillson,
Foreign Affairs Officer, International Communications and Information Policy, Department of State.

[FR Doc. 05-1522 Filed 1-26-05; 8:45 am]

BILLING CODE 4710-45-P